DEPARTMENT OF TRANSPORTATION

Surface Transportation Board

[STB Finance Docket No. 34406]

Union Pacific Railroad Company—Trackage Rights Exemption—The Burlington Northern and Santa Fe Railway Company

The Burlington Northern and Santa Fe Railway Company (BNSF) has agreed to grant overhead trackage rights to Union Pacific Railroad Company (UP) over a line of railroad on BNSF's Pikes Peak Subdivision between BNSF milepost 107.9 in or near Bragdon, CO, and BNSF milepost 120.3 (617.51) in or near Pueblo, CO, a total distance of approximately 12.4 miles.¹

¹ UP has included a draft of the trackage rights agreement and states that a copy of the agreement will be provided to the Board after it is finalized and executed.

Although UP states that the transaction was scheduled to be consummated on September 11, 2003, the earliest the transaction could be consummated was September 12, 2003 (7 days after filing under 49 CFR 1180.4(g)).

The purpose of the trackage rights is to permit UP and BNSF to implement directional running over lines between Pueblo, CO, and Amarillo, TX.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34406, must be filed with the Surface Transportation Board, 1925 K Street, NW., Washington, DC 20423-0001. In addition, a copy of each pleading must be served on Robert T. Opal, 1416 Dodge St., Room 830, Omaha, NE 68179.

Board decisions and notices are available on our Web site at WWW.STB.DOT.GOV.

Decided: September 22, 2003.
By the Board, David M. Konschnik, Director, Office of Proceedings.
Vernon A. Williams,
Secretary.

[FR Doc. 03-24384 Filed 9-24-03; 8:45 am]

BILLING CODE 4915-00-P